ENVIRONMENTAL PROTECTION AGENCY

40 CFR Part 52

[EPA-R10-OAR-2018-0766, FRL-9994-27-Region 10]

Air Plan Approval; ID: Infrastructure Requirements for the 2015 Ozone Standard; Reopening of Comment Period

AGENCY: Environmental Protection Agency (EPA).

ACTION: Proposed rule; reopening of comment period.

SUMMARY: The Environmental Protection Agency (EPA) is reopening the public comment period on the proposed rule “Air Plan Approval; ID: Infrastructure Requirements for the 2015 Ozone Standard” published April 9, 2019. Whenever a new or revised National Ambient Air Quality Standard (NAAQS) is promulgated, the Clean Air Act requires each State to submit a plan for the implementation, maintenance, and enforcement of the standard, commonly referred to as infrastructure requirements. The EPA proposes to approve the Idaho State Implementation Plan (SIP), submitted on September 27, 2018, as meeting infrastructure requirements for the 2015 ozone NAAQS. Due to an administrative error, documents relevant to the proposed action were left out of the docket during the initial comment period from April 9, 2019 to May 9, 2019. Thus, the EPA is providing an additional 30 days for public comment on the proposed action.

DATES: The comment date for the proposed rule published April 9, 2019 at 84 FR 14067, is reopened. Comments must be received on or before June 27, 2019.

ADDRESSES: Submit your comments, identified by Docket ID No. EPA-R10-OAR-2018-0766, at https://www.regulations.gov. Follow the online instructions for submitting comments. Once submitted, comments cannot be edited or removed from regulations.gov. The EPA may publish any comment received to its public docket. Do not submit electronically any information you consider to be Confidential Business Information (CBI) or other information the disclosure of which is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

FOR FURTHER INFORMATION CONTACT: Matthew Jentgen at (206) 553-0340, or jentgen.matthew@epa.gov.

SUPPLEMENTARY INFORMATION: On April 9, 2019, the EPA published a proposed rulemaking to approve the Idaho State Implementation Plan, submitted on September 27, 2018, as meeting infrastructure requirements for the 2015 ozone NAAQS (84 FR 14067). Documents relevant to the proposed action were inadvertently left out of the docket during the initial comment period. In response, the EPA is reopening the public comment period.

Dated: May 15, 2019.
Chris Hladick,
Regional Administrator, Region 10.

[FR Doc. 2019-10958 Filed 5-24-19; 8:45 am]

BILLING CODE 6560-50-P